DEPARTMENT OF HEALTH AND HUMAN SERVICES

Trusted Exchange Framework and Common Agreement Version 1.1

AGENCY: Office of the National Coordinator for Health Information Technology (ONC), Department of Health and Human Services (HHS).

ACTION: Notice.

SUMMARY: This notice fulfills an obligation under the Public Health Service Act (PHSA), which requires the National Coordinator for Health Information Technology to publish on the Office of the National Coordinator for Health Information Technology's public internet website, and in the Federal Register, the common agreement developed under the PHSA. This notice is for publishing an updated version of the Common Agreement, version 1.1.

FOR FURTHER INFORMATION CONTACT: Mark Knee, Office of the National Coordinator for Health Information Technology, 202-664-2058.

SUPPLEMENTARY INFORMATION: This notice fulfills the obligation under section 3001(c)(9)(C) of the Public Health Service Act (PHSA) to publish the common agreement, developed under section 3001(c)(9)(B) of the PHSA (42 U.S.C. 300jj-11(c)(9)(B)), in the Federal Register.

BILLING CODE 4150-45-P

Dated: October 24, 2023.
Suhas Tripathi,
National Coordinator for Health Information Technology, Office of the National Coordinator for Health Information Technology.

[FR Doc. 2023-24536 Filed 11-3-23; 8:45 am]

BILLING CODE 4150-45-C